CONSUMER PRODUCT SAFETY COMMISSION

Sunshine Act Meetings

TIME AND DATE: Tuesday, August 22, 2023—10:00 a.m. Open; and Tuesday, August 29, 2023—11:00 a.m. Closed (See MATTERS TO BE CONSIDERED for each meeting).

PLACE: The meetings will be held remotely, and in person at 4330 East-West Highway, Bethesda, Maryland 20814.

STATUS: Commission Meetings—Open to the Public (10:00 a.m.) and Closed to the Public (11:00 a.m.)

MATTERS TO BE CONSIDERED:

Briefing Matter:

Notice of Proposed Rulemaking—Safety Standard for Nursing Pillows.

To attend virtually, please use the following link and details below: https://cpsc.webex.com/cpsc/j.php?MTID=mf92f68fa850e5d90839f2d57480973e5.

Join by phone: +1-415-527-5035 US Toll.

Access code: 276 320 94287.

Briefing Matter:

Closed meeting topic.

CONTACT PERSON FOR MORE INFORMATION: Alberta E. Mills, Office of the Secretary, U.S. Consumer Product Safety Commission, 4330 East-West Highway, Bethesda, MD 20814, 301-504-7479 (Office) or 240-863-8938 (Cell).

Dated: August 22, 2023.
Alberta E. Mills,
Commission Secretary.

[FR Doc. 2023-18441 Filed 8-23-23; 11:15 am]

BILLING CODE 6355-01-P